DEPARTMENT OF HOMELAND SECURITY

Coast Guard

33 CFR Part 117

[Docket No. USCG-2018-0228]

Drawbridge Operation Regulation; Delaware River, Burlington, NJ and Bristol, PA

AGENCY: Coast Guard, DHS.

ACTION: Notice of deviation from drawbridge regulation; cancellation.

SUMMARY: The Coast Guard is canceling the temporary deviation from the operating schedule that governs the SR 413/Burlington-Bristol bridge, which carries SR 413 across the Delaware River, mile 117.8, between Burlington, NJ and Bristol, PA. The cancellation of the deviation is necessary to remove operational restrictions placed on the bridge not utilized to facilitate bridge maintenance.

DATES: The temporary deviation published on April 26, 2018, 83 FR 18226 is cancelled as of August 9, 2018.

ADDRESSES: The docket for this deviation, USCG-2018-0228 is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: On April 26, 2018, we published a temporary deviation entitled “Drawbridge Operation Regulation; Delaware River, Burlington, NJ and Bristol, PA” in the Federal Register (83 FR 18226). This temporary deviation was to facilitate bridge maintenance and painting of the vertical lift span of the drawbridge from May 1, 2018, through September 30, 2018. During the planned maintenance period, a work platform would have reduced one half of the bridge span vertical clearance to approximately 58 feet above mean high water in the closed position and approximately 132 feet above mean high water in the open position.

The temporary deviation is being cancelled due to delays in performing bridge maintenance outside the navigation span, thereby eliminating the need for a temporary deviation to facilitate bridge maintenance in the navigation span. Due to the cancellation of the work, this platform will not be installed and the bridge will operate under its regular operating schedule in 33 CFR 117.716. In accordance with 33 CFR 117.35(e), the drawbridge must return to its regular operating schedule immediately at the end of the cancellation date of the deviation.

Dated: August 2, 2018.
Hal R. Pitts,
Bridge Program Manager, Fifth Coast Guard District.

[FR Doc. 2018-16845 Filed 8-8-18; 8:45 am]

BILLING CODE 9110-04-P